DEPARTMENT OF COMMERCE

Foreign-Trade Zones Board

[B-62-2012]

Authorization of Export Production Activity, Foreign-Trade Subzone 12A, TST NA Trim, LLC (Fabric/Leather Lamination and Cutting), Hidalgo, TX

On July 25, 2012, the McAllen Foreign Trade Zone, Inc., grantee of FTZ 12, submitted a notification of proposed production activity to the Foreign-Trade Zones (FTZ) Board on behalf of TST NA Trim, LLC, within Subzone 12A, in Hidalgo, Texas.

The notification was processed in accordance with the regulations of the FTZ Board (15 CFR part 400), including notice in the Federal Register inviting public comment (77 FR 48960, 8-15-2012). The FTZ Board has determined that no further review of the activity is warranted at this time. The production activity described in the notification is authorized, subject to the FTZ Act and the Board's regulations, including Section 400.14, and further subject to a restriction requiring that all foreign-status merchandise admitted to the subzone must be re-exported.

Dated: November 30, 2012.
Andrew McGilvray,
Executive Secretary.

[FR Doc. 2012-29766 Filed 12-7-12; 8:45 am]

BILLING CODE P